DEPARTMENT OF COMMERCE

Submission for OMB Review; Comment Request

The Department of Commerce will submit to the Office of Management and Budget (OMB) for clearance the following proposal for collection of information under the provisions of the Paperwork Reduction Act (44 U.S.C. Chapter 35).

AGENCY: National Oceanic and Atmospheric Administration (NOAA).

Title: National Oceanic and Atmospheric Administration: (1) Office of Education, Educational Partnership Program (EPP), (2) Ernest F. Hollings Undergraduate Scholarship Program; (3) Dr. Nancy Foster Scholarship Program; and, (4) National Marine Fisheries Service Recruitment, Training, and Research Program.

OMB Control Number: 0648-0568.

Form Number(s): NA.

Type of Request: Regular submission (revision and extension of a current information collection).

Number of Respondents: 3,581.

Average Hours per Response: Scholarship applications, 8 hours; references and alumni surveys, 1 hour; student performance measures tracking, 28 hours.

Burden Hours: 9,513.

Needs and Uses: This request is for revision and extension of a current information collection.

The National Oceanic and Atmospheric Administration (NOAA) Office of Education (OEd) collects, evaluates and assesses student data and information for the purpose of selecting successful candidates, generating internal NOAA reports and articles to demonstrate the success of its program. The OEd requires applicants to its student scholarship programs to complete an application for NOAA undergraduate scholarship programs. Part of the application package requires completion of a NOAA student scholar reference form in support of the scholarship application by academic professors/advisors. NOAA OEd student scholar alumni are also requested to provide information to NOAA for internal tracking purposes. NOAA OEd grantees are required to update the student tracker database with the required student information.

In addition, the collected student data supports NOAA OEd's program performance measures.

Revision

New to the alumni student data collection are the Dr. Nancy Foster Scholarship Program and the Recruiting, Training, and Research Program. Both programs have a need to collect information on their program alumni.

Affected Public: Individuals and households; not-for-profit institutions.

Frequency: One time and on occasion.

Respondent's Obligation: Required to obtain or maintain benefits.

OMB Desk Officer: OIRA_Submission@omb.eop.gov.

Copies of the above information collection proposal can be obtained by calling or writing Jennifer Jessup, Departmental Paperwork Clearance Officer, (202) 482-0336, Department of Commerce, Room 6616, 14th and Constitution Avenue NW., Washington, DC 20230 (or via the Internet at JJessup@doc.gov).

Written comments and recommendations for the proposed information collection should be sent within 30 days of publication of this notice to OIRA_Submission@omb.eop.gov.

Dated: December 13, 2013.
Gwellnar Banks,
Management Analyst, Office of the Chief Information Officer.

[FR Doc. 2013-30177 Filed 12-18-13; 8:45 am]

BILLING CODE 3510-22-P